DEPARTMENT OF COMMERCE

National Oceanic and Atmospheric Administration

RIN 0648-XF321

Fisheries of the South Atlantic; South Atlantic Fishery Management Council; Public Meetings

AGENCY: National Marine Fisheries Service (NMFS), National Oceanic and Atmospheric Administration (NOAA), Commerce.

ACTION: Notice of meetings of the South Atlantic Fishery Management Council's Scientific and Statistical Committee (SSC) and SSC Socio-Economic Panel (SEP).

SUMMARY: The South Atlantic Fishery Management Council (Council) will hold a meeting of its SSC and SEP. See SUPPLEMENTARY INFORMATION.

DATES: The SEP will meet from 1:30 p.m. to 5:30 p.m., Monday, April 24, 2017; and 8:30 a.m. to 12 noon, Tuesday, April 25, 2017. The SSC will meet from 1:30 p.m. to 5:30 p.m., Tuesday, April 25, 2017; 8:30 a.m. to 5:30 p.m., Wednesday, April 26, 2017; and 8:30 a.m. to 3 p.m., Thursday, April 27, 2017.

ADDRESSES: Meeting address: The meetings will be held at the Town & Country Inn and Suites, 2008 Savannah Hwy, Charleston, SC 29407; phone: (800) 334-6660 or (843) 571-1000; fax: (843) 766-9444.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION: The following items will be discussed by the SEP and SSC during these meetings:

SEP Meeting, Monday, April 24, 2017, 1:30 p.m. Until Tuesday, April 25, 2017, 12 Noon

1. Human environment sections of the Fishery Ecosystem Plan.

2. Snapper Grouper socio-economic profile.

3. Potential socio-economic survey in the South Atlantic.

4. Socio-economic components of the charter/headboat logbook questionnaire.

5. Analysis of fishing behavior.

6. Economic and social indicators of stock abundance.

7. Recent and developing Council actions.

SSC Meeting, Tuesday, April 25, 2017, 1:30 p.m. Until Thursday, April 27, 2017, 3 p.m.

1. Receive updates on 2016-2017 landings, annual catch limits (ACLs), Acceptable Biological Catches (ABCs) and accountability measures (AMs) the Southeast Fishery Independent Survey (SEFIS) fishery independent index; planning for the next meeting of the Council Coordination Committee's Scientific Coordination Committee; recent Southeast Data, Assessment and Review (SEDAR) stock assessment program activities including review of Vermilion Snapper Terms of Reference and assessment project schedule; the proposed research track assessment approach; and Council future assessment priorities.

2. Review updated golden tilefish projections and further consider fishing level recommendations.

3. Review the Red Grouper Stock Assessment and provide fishing level recommendations.

4. Discuss ABC Control Rule modifications.

5. Review Snapper Grouper Amendment 43 (management options for red snapper and recreational reporting) and consider the Council request to work with the Southeast Fisheries Science Center (SEFSC) to explore approaches for obtaining an ABC for red snapper.

6. Discuss uncertainty in the Marine Recreational Information Program (MRIP) estimates and a future joint SSC meeting with the Gulf of Mexico Fishery Management Council's SSC.

7. Review the South Atlantic Research Plan and make research recommendations.

8. Review and comment on the NOAA Fisheries draft Stock Assessment Improvement Plan.

9. Discuss using the SSC's Complex Analysis Review process for the black sea bass bag and size limit analysis.

10. Provide guidance on the SSC's future review of natural mortality estimation.

11. Receive updates and progress reports on ongoing Council amendments and activities, including the Citizen Science Program.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m., Tuesday, April 18, 2017.

Multiple opportunities for comment on agenda items will be provided during SSC meetings. Open comment periods will be provided at the start of the meeting and near the conclusion. Those interested in providing comment should indicate such in the manner requested by the Chair, who will then recognize individuals to provide comment. Additional opportunities for comment on specific agenda items will be provided, as each item is discussed, between initial presentations and SSC discussion. Those interested in providing comment should indicate such in the manner requested by the Chair, who will then recognize individuals to provide comment. All comments are part of the record of the meeting.

Special Accommodations

These meetings are accessible to people with disabilities. Requests for auxiliary aids should be directed to the SAFMC office (see ADDRESSES) at least 10 business days prior to the meeting.

Note: The times and sequence specified in this agenda are subject to change.

Authority: 16 U.S.C. 1801 et seq.

Dated: March 28, 2017.
Tracey L. Thompson,
Acting Deputy Director, Office of Sustainable Fisheries, National Marine Fisheries Service.

[FR Doc. 2017-06377 Filed 3-30-17; 8:45 am]

BILLING CODE 3510-22-P